DEPARTMENT OF COMMERCE

International Trade Administration

19 CFR Part 351

Antidumping and Countervailing Duty Proceedings: Assessment of Antidumping Duties; Additional Comment Period

AGENCY: Import Administration, International Trade Administration, Department of Commerce

ACTION: Notice of additional comment period on proposed policy.

SUMMARY: The Department of Commerce is announcing a one-week final comment period for parties interested in submitting comments on the October 15, 1998, proposed clarification on the automatic-liquidation regulation where a reseller has been involved in the chain of commerce.

DATES: Submit comments by April 1, 2002.

ADDRESSES: Submit written comments to Faryar Shirzad, Assistant Secretary for Import Administration, Docket Center, Room 1870, Pennsylvania Avenue and 14th Street, NW., Washington, DC 20230.

FOR FURTHER INFORMATION CONTACT: Laurie Parkhill, Office 3, Import Administration at 202-482-4733, or Patrick Gallagher, Office of Chief Counsel for Import Administration, at 202-482-5053.

SUPPLEMENTARY INFORMATION:

Background

On October 15, 1998, the Department of Commerce (the Department) published a proposed clarification of the Department's position on the automatic-liquidation procedures for a reseller and invited public comment on that clarification. See Notice and Request for Comment on Policy Concerning Assessment of Antidumping Duties, 63 FR 55361 (Proposed Clarification). On November 12, 1998, we published a notice of Rebuttal Period for Comments on Policy Concerning Assessment of Antidumping Duties (63 FR 63288) which extended the period for initial comments to November 13, 1998, established a rebuttal period until December 4, 1998, and provided for the submission of comments and rebuttal in an electronic format for posting to the Import Administration internet home page.

In the Proposed Clarification the Department explained the need for a clear articulation of its policy concerning the assessment of antidumping duties where intermediate companies are involved in exporting merchandise subject to antidumping duty orders to the United States. See 63 FR 55361. The Department also proposed in that notice that its clarified policy would apply to all entries for which the anniversary date for requesting an administrative review is on or after the date of publication of a final decision on this issue.

The Department received several written comments and rebuttals regarding the proposed assessment clarification and is preparing its final decision on the issue. Specifically, the Government of Canada, Micron, Volvo, the Steel Service Center Institute, the American Bearing Manufacturers Association, and The Timken Company provided comments. See the Import Administration Web site at www.ia.ita.doc.gov. The Department has reviewed these comments and is prepared to announce a final decision shortly.

Given the passage of time since the publication of the Proposed Clarification, however, the Department has decided to alert the public to the pending clarification and to provide one more opportunity for the public to submit comments on the proposed clarification. The Department will consider all comments it has already received: re-submisison of earlier comments is not necessary. Parties which have not yet commented on the proposal may submit comments within seven (7) calendar days of the publication of this notice for the Department's consideration.

To help simplify the processing and distribution of comments, the Department requests that a submission in electronic form accompany the required paper copies. Comments filed in electronic form should be on a DOS formatted 3.5″ diskette in either WordPerfect format or a format that the WordPerfect program can convert into WordPerfect. Please make each comment a separate file on the diskette and name each separate file using the name of the proposed document, e.g., “Reseller Liquidation.”

Comments received on diskette will be made available to the public on the Web at ia.ita.doc.gov. In addition, upon request, the Department will make comments filed in electronic form available to the public on 3.5″ diskettes (at cost) with specific instructions for accessing compressed data (if necessary). Any questions concerning file formatting, document conversion, access on the Web, or other electronic filing issues should be addressed to Andrew Lee Beller, IA Webmaster, at 202-482-0866 or via e-mail at Andrew Lee Beller@ita.doc.gov.

Address written comments to Faryar Shirzad, Assistant Secretary for Import Administration, Docket Center, Room 1870, Pennsylvania Avenue and 14th Street., NW, Washington, DC 20230, Attention: Laurie Parkhill, Comment on Automatic Liquidation.

Dated: March 15, 2002.
Richard W. Moreland,
Acting Assistant Secretary for Import Administration.

[FR Doc. 02-6870 Filed 3-22-02; 8:45 am]

BILLING CODE 3510-DS-M